DEPARTMENT OF HOMELAND SECURITY

Coast Guard

[Docket No. USCG-2024-0235]

Certificates of Alternative Compliance for the Eighth Coast Guard District

AGENCY: Coast Guard, DHS.

ACTION: Notification of issuance of certificates of alternative compliance.

SUMMARY: The Coast Guard announces that the Eighth Coast Guard District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between April 2023 and December 2023.

FOR FURTHER INFORMATION CONTACT: For information or questions about this notice call or email Lieutenant Commander Jessica Flennoy, District Eight, Prevention Division, U.S. Coast Guard, telephone 504-671-2156, email Jessica.Flennoy@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eighth Coast Guard District has issued COACs to the following vessels from April 2023 to December 2023:

Year | Vessel name | Details
2023 | ANGUS R COOPER II | This certificate authorized the placement of the vessel's mast light 36′-9⅞″ above the main deck and 23′-7⅞″ when the mast is in the lowered position; sidelights on the elevated pilot house 4′-6″ outboard from the centerline of the vessel; Restricted in Ability to Maneuver and Not Under Command lights 1′-½″ off centerline starting 23′-7⅞″ above the hull and vertically spaced 6′-7″; stern light placed at the centerline of the vessel on the rear portion of the pilot house at a height no less than nor exceeding 20′-8½″ as measured form the main deck; and as a result of the Restricted in Ability to Maneuver and Not Under Command light placement, the towing masthead lights will not be above and clear of all other lights.
2023 | HOS RESOLUTION | This certificate authorized the placement of the vessel's stern light 17′-5″ above the main deck and 22′ outboard from the centerline of the vessel on the starboard side of stern ramp; and the towing light 24′ above the main deck and 22′ outboard from the centerline of the vessel on the starboard side of stern ramp.
2023 | C-LEGACY | This certificate authorized the placement of the vessel's aft masthead light 21′-9 11/16″ aft of the forward masthead light.
2023 | AURORA | This certificate authorized the placement of the vessel's mast light 40′-3¾″ above the main deck and 23′-3″ when the mast is in the lowered position and 1′-2″ aft of amidships; sidelights on the elevated pilot house 10′-5¾″ outboard from the centerline of the vessel; and Restricted in Ability to Maneuver and Not Under Command lights 1′-6″ off centerline starting 25′-5⅛″ above the hull and vertically spaced 6′-7″; and stern light at the centerline of the vessel on the rear portion of the pilot house at a height no less than nor exceeding 23′-3″ as measured form the main deck.
2023 | EWOLF | This certificate authorized the placement of the vessel's mast light 42′-0¾″ above the main deck and 23′-7 13/16″ when the mast is in the lowered position; sidelights on the elevated pilot house 6′-7 3/16″ outboard from the centerline of the vessel; Restricted in Ability to Maneuver and Not Under Command lights 1′-6″ off centerline starting 27′-8¾″ above the hull and vertically spaced 6′-7″; and stern light at the centerline of the vessel on the rear portion of the pilot house at a height no less than nor exceeding 9′-4″ as measured form the main deck.
2023 | GENESIS SPIRIT | This certificate authorized the placement of the vessel's sidelights 12′-11″ inboard of the side shell on the upper pilot house and 9′-3″ inboard of the side shell on the lower pilot house of the vessel; and Restricted in Ability to Maneuver and Not Under Command lights 3′-6″ off centerline starting 62′-3 7/16″ above the hull and vertically spaced 6′-7″.
2023 | SIGNET SIRIUS | This certificate authorized the placement of the bottom masthead light 31′-8″ above the main deck and 1′-4″ forward of amidships with the second and third masthead lights placed directly above and vertically spaced 6′-6.75″ between each masthead light; sidelights at a height of 21′-9″ above the main deck and 7′-6″ outboard from the centerline of the vessel; stern light at a height of 24′-0″ above the main deck and 8′-9″ abaft of amidships' and Restricted in Ability to Maneuver and Not Under Command lights 3′-3″ outboard of the centerline starting 30′-2″ above the hull and vertically spaced 6′-6.75″.
2023 | SIGNET CAPELLA | This certificate authorized the placement of the bottom masthead light 31′-8″ above the main deck and 1′-4″ forward of amidships with the second and third masthead lights placed directly above and vertically spaced 6′-6.75″ between each masthead light; sidelights at a height of 21′-9″ above the main deck and 7′-6″ outboard from the centerline of the vessel; stern light at a height of 24′-0″ above the main deck and 8′-9″ abaft of amidships; and the Restricted in Ability to Maneuver and Not Under Command lights 3′-3″ outboard of the centerline starting 30′-2″ above the hull and vertically spaced 6′-6.75″.
2023 | EDEN K | This certificate authorized the placement of mast light 40′-3.75″ above the main deck and 23′-3″ when the mast is in the lowered position and 1′-2″ aft of amidships; sidelights on the elevated pilot house 10′-5¾″ outboard from the centerline of the vessel; Restricted in Ability to Maneuver and Not Under Command lights placed 1′-6″ off centerline starting 25′-5⅛″ above the hull and vertically spaced 6′-7″; and stern light placed at the centerline of the vessel on the rear portion of the pilot house at a height no less than nor exceeding 23′-3″ as measured form the main deck.
2023 | GARL L HOLMAN | This certificate authorized the placement of the sidelights on the pilothouse, 7′-11½″ outboard from centerline of the vessel.
2023 | CELINA CHOUEST | This certificate authorized the placement of the after-masthead light on the main mast above the pilothouse, 21′-9 11/16″ aft of the forward masthead light.

The Eighth Coast Guard District's Prevention Division, U.S. Coast Guard, certifies that the vessels listed above are of special construction or purpose and are unable to comply fully with the requirements of the provisions enumerated in the 72 COLREGS, without interfering with the normal operation, construction, or design of the vessels. The Eighth Coast Guard District's Prevention Division, U.S. Coast Guard, further finds and certifies that the listed vessels are in the closest possible compliance with the applicable provisions of the 72 COLREGS.⁵

⁵ 33 U.S.C. 1605(a); 33 CFR 81.9.

This notice is issued under authority of 33 U.S.C. 1605(c) and 33 CFR 81.18.

Dated: August 21, 2024.
A.H. Moore, Jr.
Captain, U.S. Coast Guard, Chief, Prevention Division, Eighth Coast Guard District.

[FR Doc. 2024-19088 Filed 8-23-24; 8:45 am]

BILLING CODE 9110-04-P